DEPARTMENT OF COMMERCE

International Trade Administration

[A-821-801]

Solid Urea from Russia: Notice of Initiation of Antidumping Duty New-Shipper Review

AGENCY: Import Administration, International Trade Administration, Department of Commerce.

EFFECTIVE DATE: March 6, 2007.

SUMMARY: On January 25, 2007, the Department of Commerce received a request to conduct a new-shipper review of the antidumping duty order on solid urea from Russia. In accordance with section 751(a)(2)(B) of the Tariff Act of 1930, as amended, and 19 CFR 351.214(d) (2005), we are initiating an antidumping duty new-shipper review.

FOR FURTHER INFORMATION CONTACT: Thomas Schauer or Minoo Hatten at (202) 482-0410 and (202) 482-1690, respectively, Office 5, AD/CVD Operations, Import Administration, International Trade Administration, U.S. Department of Commerce, 14th Street and Constitution Avenue, NW., Washington, DC 20230.

SUPPLEMENTARY INFORMATION:

Background

On May 26, 1987, the Department of Commerce (the Department) published its final determination in the investigation of solid urea from the Union of Soviet Socialist Republics (Soviet Union), finding dumping margins of 68.26 percent for Soyuzpromexport, 53.23 percent for Phillip Brothers, and 68.26 as the country-wide rate (52 FR 19557). On July 14, 1987, following an affirmative injury determination by the International Trade Commission, the Department issued an antidumping duty order on solid urea from the Soviet Union. Following the break-up of the Soviet Union, the antidumping duty order on solid urea from the Soviet Union was transferred to the individual members of the Commonwealth of Independent States. See Solid Urea from the Union of Soviet Socialist Republics; Transfer of the AD Order on Solid Urea from the Union of Soviet Socialist Republics to the Commonwealth of Independent States and the Baltic States and Opportunity to Comment, 57 FR 28828 (June 29, 1992). The rates established in the most recently completed administrative review for the Soviet Union (which, because there were no shipments of urea during the review period, remained the same as those found in the investigation) were applied to each new independent state, including Russia. On September 3, 1999, the Department published the final results of the first sunset review of solid urea from Russia finding likelihood of continued or recurring dumping at the rates established in the original investigation. See Final Results of Expedited Sunset Reviews: Solid Urea from Armenia, Belarus, Estonia, Lithuania, Russia, Ukraine, Tajikistan, Turkmenistan, and Uzbekistan, 64 FR 48357 (September 3, 1999). On January 5, 2006, the Department published the final results of the second sunset review of solid urea from Russia finding likelihood of continued or recurring dumping at the rates established in the original investigation. See Notice of Continuation of Antidumping Duty Orders: Solid Urea from the Russian Federation and Ukraine, 71 FR 581 (January 5, 2006). There have been no administrative reviews since the issuance of the antidumping duty order.

On January 25, 2007, the Department received a timely request for a new-shipper review of the antidumping duty order on solid urea from Russia from MCC EuroChem (EuroChem). On January 31, 2007, EuroChem submitted additional certifications to supplement its request for a new-shipper review in response to our telephone call of the same. See memorandum to file dated January 31, 2007. EuroChem certified that it is both the producer and exporter of the subject merchandise upon which the request for a new-shipper review is based.

Pursuant to section 751(a)(2)(B)(i)(I) of the Tariff Act of 1930, as amended (the Act), and 19 CFR 351.214(b)(2)(i), EuroChem certified that it did not export solid urea to the United States during the period of investigation (POI). In addition, pursuant to section 751(a)(2)(B)(i)(II) of the Act and 19 CFR 351.214(b)(2)(iii)(A), EuroChem certified that, since the initiation of the investigation, it has never been affiliated with any Russian exporter or producer who exported solid urea to the United States during the POI, including those not individually examined during the investigation.

In addition to the certifications described above, pursuant to 19 CFR 351.214(b)(2)(iv), EuroChem submitted documentation establishing the date on which EuroChem first shipped solid urea for export to the United States and the date on which the solid urea was first entered, or withdrawn from warehouse, for consumption, the volume of its first shipment, and the date of its first sale to an unaffiliated customer in the United States.

The Department conducted a query of the U.S. Customs and Border Protection (CBP) database to confirm that EuroChem's shipment of subject merchandise had entered the United States for consumption and had been suspended for antidumping duties. The Department also corroborated EuroChem's assertion that it made no subsequent shipments to the United States by reviewing CBP data.

On February 16, 2007, the Ad Hoc Committee of Domestic Nitrogen Producers (the petitioner) submitted a letter arguing that the respondent was not eligible for a new-shipper review because the producer of the subject merchandise to be reviewed, OJSC Nevinnomysskiy Azot (Nevinka), was affiliated with the exporter and producers during the POI. The petitioner also argued that the request was incomplete because EuroChem did not also file a certification from Nevinka certifying that it never shipped subject merchandise to the United States during the POI.

Initiation of Review

Pursuant to section 751(a)(2)(B) of the Act and 19 CFR 351.214(d)(1), the Department finds that EuroChem's request meets the threshold requirements for initiation of a new-shipper review for the shipment of solid urea from Russia it produced and exported. See Memorandum to the File from Thomas Schauer, Senior Analyst, through Laurie Parkhill, Director, Office 5: New-Shipper Review Initiation Checklist, dated February 26, 2007. Also, please refer to this memorandum for our response to the arguments the petitioner raised in its February 16, 2007, letter. As we stated in that memorandum, we intend to examine these arguments in greater detail during the course of the review and, if we determine that the producer of the subject merchandise subject to the review was indeed an affiliate of the exporter or producers in the original investigation, we may rescind the new-shipper review as provided in section 751(a)(2)(B) of the Act and 19 CFR 351.214.

The period of review for this new-shipper review is July 1, 2006, through December 31, 2006. See 19 CFR 351.214(g)(1)(ii)(A). The Department intends to issue the preliminary results of this review no later than 180 days from the date of initiation and final results of this review no later than 270 days from the date of initiation. See section 751(a)(2)(B)(iv) of the Act.

On August 17, 2006, the Pension Protection Act of 2006 (H.R. 4) was signed into law. Section 1632 of H.R. 4 temporarily suspends the authority of the Department to instruct U.S. Customs and Border Protection to collect a bond or other security in lieu of a cash deposit in new-shipper reviews. Therefore, the posting of a bond under section 751(a)(2)(B)(iii) of the Act in lieu of a cash deposit is not available in this case. Importers of subject merchandise manufactured and exported by EuroChem must continue to pay a cash deposit of estimated antidumping duties on each entry of subject merchandise at the current all-others rate of 68.26 percent.

Interested parties requiring access to proprietary information in this new-shipper review should submit applications for disclosure under administrative protective order in accordance with 19 CFR 351.305 and 351.306.

This initiation and notice are published in accordance with section 751(a)(2)(B) of the Act and 19 CFR 351.214 and 351.221(c)(1)(i).

Dated: February 27, 2007.
David M. Spooner,
Assistant Secretary for Import Administration.

[FR Doc. E7-3896 Filed 3-5-07; 8:45 am]

BILLING CODE 3510-DS-S